ELECTION ASSISTANCE COMMISSION

Sunshine Act Meeting Notice

AGENCY: U.S. Election Assistance Commission.

ACTION: Public Meeting of the Technical Guidelines Development Committee.

SUMMARY: The Technical Guidelines Development Committee (TGDC) will meet in open session on Monday, July 20, 2015 and Tuesday, July 21, 2015 at the National Institute of Standards and Technology (NIST) in Gaithersburg, Maryland.

DATES: The meeting will be held on Monday, July 20, 2015, from 8:30 a.m. until 4:45 p.m., Eastern time (estimated based on speed of business), and Tuesday, July 21, 2015 from 8:30 a.m. to 12 p.m., Eastern time (estimated based on speed of business).

ADDRESSES: The meeting will take place at the National Institute of Standards and Technology (NIST), 100 Bureau Drive, Building 101, Portrait Room, Gaithersburg, Maryland 20899-8900. Members of the public wishing to attend the meeting must notify Mary Lou Norris or Angela Ellis by c.o.b. Monday, July 13, 2015, per instructions under the SUPPLEMENTARY INFORMATION section of this notice.

FOR FURTHER INFORMATION CONTACT: Patricia Wilburg, NIST Voting Program, Information Technology Laboratory, National Institute of Standards and Technology, 100 Bureau Drive, Stop 8970, Gaithersburg, MD 20899-8930, telephone: (301) 975-6772 or patricia.wilburg@nist.gov.

SUPPLEMENTARY INFORMATION: Pursuant to the Federal Advisory Committee Act (FACA), 5 U.S.C. App., notice is hereby given that the TGDC will meet Monday, July 20, 2015, from 8:30 a.m. until 4:45 p.m., Eastern time, and Tuesday, July 21, 2015 from 8:30 a.m. to 12 p.m., Eastern time. Discussions at the meeting will include the following topics: Review of the Voluntary Voting System Guidelines 1.1 (VVSG 1.1); Impact of the VVSG on State Certification Efforts; Usability and Accessibility Update; Update on Institute of Electrical and Electronics Engineers VSCC P1622 (IEEE VSCC P1622); EAC Future VVSG Working Group Report; National Association of State Election Directors (NASED) Standards and Certification Subcommittee Update; Standards Board VVSG Subcommittee Update; TGDC open Discussion on Future VVSG Development; Update on Security Related Advancements and Threats; Update on System Certification; Update from the Federal Voting Assistance Program (FVAP). The full meeting agenda will be posted in advance at http://vote.nist.gov/. All sessions of this meeting will be open to the public.

The TGDC was established pursuant to 42 U.S.C 15361, to act in the public interest to assist the Executive Director of the Election Assistance Commission (EAC) in the development of voluntary voting system guidelines. Details regarding the TGDC's activities are available at http://vote.nist.gov/.

All visitors to the National Institute of Standards and Technology site will have to pre-register to be admitted. Anyone wishing to attend this meeting must register by c.o.b. Monday, July 13, 2015, in order to attend. Please submit your name, time of arrival, email address and phone number to Gladys Arrisueno and she will provide you with instructions for admittance. Non-U.S. citizens must also submit their country of citizenship, title, employer/sponsor, and address. Gladys Arrisueno's email address is gladys.arrisueno@nist.gov, and her phone number is (301) 975-5220. If you are in need of a disability accommodation, such as the need for Sign Language Interpretation, please contact Patricia Wilburg by c.o.b Monday, July 13, 2015. Patricia Wilburg's contact information is given in the FOR FURTHER INFORMATION CONTACT section above.

Members of the public who wish to speak at this meeting may send a request to participate to Patricia Wilburg by c.o.b. Thursday, July 9, 2015. Individuals and representatives of organizations who would like to offer comments and suggestions related to the Committee's affairs are invited to request a place on the agenda. On July 20, 2015, approximately 30 minutes will be reserved for public comments at the end of the open session. Speaking times will be assigned on a first-come, first-served basis. The amount of time per speaker will be determined by the number of requests received, but is likely to be no more than 3 to 5 minutes each. Participants who are chosen will receive confirmation from the contact listed above that they were selected by 12 p.m. Eastern time on Tuesday, July 14, 2015.

The general public, including those who are not selected to speak, may submit written comments, which will be distributed to TGDC members so long as they are received no later than 12:00 p.m. Eastern time on Tuesday, July 14, 2015. All comments will also be posted on http://www.nist.gov/itl/vote/.

TGDC Vacancy Announcement:

In accordance with Section 12 (Membership and Designation) of the TGDC FACA Charter 2015, the Election Assistance Commission and the National Institute of Standards and Technology are seeking applications from four (4) qualified individuals to fill remaining vacancies on the EAC Technical Guidelines Development Committee (TGDC). Individuals should have significant technical and scientific expertise relating to voting systems and voting equipment as well as a good general knowledge of the election administration process in the United States. Members of the Committee serve for a term of two (2) years, and may serve for a longer period only if reappointed for an additional term or terms. All applications should be sent via email to: bhancock@eac.gov

Or via regular mail to: Brian Hancock, Director of Testing and Certification, U.S. Election Assistance Commission, 1335 East-West Highway, Ste. 4300, Silver Spring, MD. 20910

Applications should be received by the EAC no later than close of business July 8, 2015.

This announcement will also be published in the Federal Register as Required by Section 12 (Membership and Designation) of the TGDC FACA Charter 2015.

Bryan Whitener,
Director of Communications & Clearinghouse, U.S. Election Assistance Commission.

[FR Doc. 2015-16505 Filed 6-30-15; 4:15 pm]

BILLING CODE 6820-KF-P